DEPARTMENT OF THE INTERIOR

National Park Service

[NPS-WASO-VRP-REGS-20916; PPWOVPAU0, PPMPSPD1Y.M0000 (166)]

Information Collection Request Sent to the Office of Management and Budget (OMB) for Approval; Special Park Use Applications

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on August 31, 2016. We may not conduct or sponsor and a person is not required to respond to a collection of information unless it displays a currently valid OMB Control Number.

DATES: You must submit comments on or before September 8, 2016.

ADDRESSES: Send your comments and suggestions on this information collection to the Desk Officer for the Department of the Interior at OMB-OIRA at (202) 395-5806 (fax) or OIRA_Submission@omb.eop.gov (email). Please provide a copy of your comments to the Information Collection Clearance Officer, National Park Service, 12201 Sunrise Valley Dr. (MS-242), Reston, VA 20192 (mail); or madonna_baucum@nps.gov (email). Please reference OMB Control Number 1024-0026 in the subject line of your comments.

FOR FURTHER INFORMATION CONTACT: To request additional information about this ICR, contact Lee Dickinson, Special Park Uses National Manager, at lee_dickinson@nps.gov (email) or 202-513-7092 (telephone). You may review the ICR online at http://www.reginfo.gov. Follow the instructions to review Department of the Interior collections under review by OMB.

SUPPLEMENTARY INFORMATION:

I. Abstract

Under 54 U.S.C. 100101 (National Park Service Act Organic Act), we must preserve America's natural wonders unimpaired for future generations, while also making them available for the enjoyment of the visitor. Meeting this mandate requires that we balance preservation with use. Maintaining a good balance requires both information and limits. In accordance with regulations at 36 CFR parts 1-7, 13, 20, and 34, we issue permits for special park uses.

Special park uses cover a wide range of activities including, but not limited to, special events, First Amendment activities, grazing and agricultural use, commercial filming, still photography, construction and vehicle access. Permits are issued for varying amounts of time based on the requested use, but generally do not exceed 5 years. A new application must be submitted in order to request the renewal of an existing permit.

The information we collect in the special use applications allows park managers to determine if the requested use is consistent with the laws and NPS regulations referenced above and with the public interest. The park manager must also determine that the requested activity will not cause unacceptable impacts to park resources and values. The information is collected from respondents using the following NPS forms:

10-930—Application for Special Use Permit;

10-930s—Application for Special Use Permit (short form);

10-931—Application for Special Use Permit—Commercial Filming/Still Photography Permit (short);

10-932—Application for Special Use Permit—Commercial Filming/Still Photography Permit (long); and,

10-933—Application for Special Use Permit—Vehicle/Watercraft Use.

II. Data

OMB Control Number: 1024-0026.

Title: Special Park Use Applications (portions of 36 CFR 1-7, 13, 20, and 34).

Form Numbers: NPS Forms 10-930—Application for Special Use Permit; 10-930s—Application for Special Use Permit (short form); 10-931—Application for Special Use Permit—Commercial Filming/Still Photography Permit (short); 10-932—Application for Special Use Permit—Commercial Filming/Still Photography Permit (long); and, 10-933—Application for Special Use Permit—Vehicle/Watercraft Use.

Type of Request: Extension of a currently approved collection of information.

Description of Respondents: Individuals or households; not-for-profit entities; businesses or other for-profit entities; and Federal, State, local and tribal governments.

Respondent's Obligation: Required to obtain or retain a benefit.

Frequency of Collection: On occasion.

Activity | Total number of annual respondents | Total number of annual responses | Completion time per response (hours) | Total annual hours
Form 10-930:
Individuals | 8,763 | 8,763 | .5 | 4,382
Private Sector | 3,559 | 3,559 | .5 | 1,780
Government | 516 | 516 | .5 | 258
Form 10-930s:
Individuals | 3,110 | 3,110 | .25 | 778
Private Sector | 1,441 | 1,441 | .25 | 360
Government | 310 | 310 | .25 | 78
Form 10-931:
Individuals | 412 | 412 | .25 | 103
Private Sector | 1,226 | 1,226 | .25 | 307
Government | 42 | 42 | .25 | 11
Form 10-932:
Individuals | 109 | 109 | .5 | 55
Private Sector | 945 | 945 | .5 | 473
Government | 19 | 19 | .5 | 10
Form 10-933:
Individuals | 13,050 | 13,050 | .25 | 3,263
Private Sector | 228 | 228 | .25 | 57
Government | 5 | 5 | .25 | 1
Totals | 33,735 | 33,735 |  | 11,916

Estimated Annual Nonhour Burden Cost: $2,530,125 for application fees.

III. Comments

On February 3, 2016, we published in the Federal Register (81 FR 5781) a notice of our intent to request that OMB renew approval for this information collection. In that notice, we solicited comments for 60 days, ending on April 4, 2016. No responses were received.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: August 3, 2016.
Madonna L. Baucum,
Information Collection Clearance Officer, National Park Service.

[FR Doc. 2016-18836 Filed 8-8-16; 8:45 am]

BILLING CODE 4310-EH-P